DEPARTMENT OF LABOR

Employment and Training Administration

[TA-W-51,191]

GetronicsWang Co. LLC, dba Getronics, Valley View, Ohio; Notice of Negative Determination Regarding Application for Reconsideration

By application of June 2, 2003, a petitioner requested administrative reconsideration of the Department's negative determination regarding eligibility for workers and former workers of the subject firm to apply for Trade Adjustment Assistance (TAA). The denial notice applicable to workers of GetronicsWang Co. LLC dba Getronics, Valley View, Ohio was signed on April 23, 2003, and published in the Federal Register on May 7, 2003 (68 FR 24503).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at GetronicsWang Co. LLC dba Getronics, Valley View, Ohio engaged in activities related to data processing and related services for an unaffiliated company: LTV Steel at two work sites in Cleveland, Ohio. The petition was denied because the petitioning workers did not produce an article within the meaning of section 222(3) of the Act.

In the request for reconsideration, the petitioners state that their layoffs are attributable to the import impact that led to the bankruptcy, and subsequent TAA certification, of their contracting firm. From a review of the petition in the initial investigation, it appears that the petitioners are attempting to allege that they are applying on a secondary basis, meeting that eligibility criterion on the basis that they worked for a primary impacted trade certified firm.

In order to be eligible for trade adjustment assistance, the petitioning worker group would have to produce a product; data processing and related services do not constitute production of an article as defined in section 222 of the Trade Act. In addition, data processing and related services can neither be construed as a component part of the steel products produced by the trade certified firm, nor does it fit the definition of finishing or assembling the trade certified product, thus petitioning workers can not be considered as secondarily impacted workers.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC this 13th day of June, 2003.
Elliott S. Kushner,
Certifying Officer, Division of Trade Adjustment Assistance.

[FR Doc. 03-16893 Filed 7-3-03; 8:45 am]

BILLING CODE 4510-30-P